DEPARTMENT OF TRANSPORTATION

Federal Railroad Administration

[Docket No. FRA-2015-0007-N-18]

Agency Request for Emergency Processing of Collection of Information by the Office of Management and Budget

AGENCY: Federal Railroad Administration (FRA), United States Department of Transportation (USDOT).

ACTION: Notice.

SUMMARY: FRA hereby gives notice that it is submitting the following Information Collection request (ICR) to the Office of Management and Budget (OMB) for emergency processing under the Paperwork Reduction Act of 1995. FRA requests that OMB authorize the collection of information identified below seven days after publication of this Notice for a period of 180 days.

FOR FURTHER INFORMATION CONTACT: A copy of this individual ICR, with applicable supporting documentation, may be obtained by telephoning FRA's Office of Safety Clearance Officer: Robert Brogan (tel. (202) 493-6292) or FRA's Office of Administration Clearance Officer: Kimberly Toone (tel. (202) 493-6132); these numbers are not toll-free; or by contacting Mr. Brogan via facsimile at (202) 493-6216 or Ms. Toone via facsimile at (202) 493-6497, or via email by contacting Mr. Brogan at Robert.Broga@dot.gov; or by contacting Ms. Toone at Kim.Toone@dot.gov. Comments and questions about the ICR identified below should be directed to OMB's Office of Information and Regulatory Affairs, Attn: FRA OMB Desk Officer.

SUPPLEMENTARY INFORMATION: On Tuesday, May 12, 2015, Amtrak passenger train 188 (Train 188) was traveling timetable east (northbound) from Washington, DC, to New York City. Aboard the train were five Amtrak crew members, three Amtrak employees, and 250 passengers. Train 188 consisted of a locomotive in the lead and seven passenger cars trailing. Shortly after 9:20 p.m., the train derailed while traveling through a curve at Frankford Junction in Philadelphia, Pennsylvania. As a result of the accident, eight persons were killed, and a significant number of persons were seriously injured.

The National Transportation Safety Board (NTSB) has taken the lead role conducting the investigation of this accident under its legal authority. 49 U.S.C. 1101 et seq.; 49 CFR 831.2(b). As is customary, FRA is participating in the NTSB's investigation and also investigating the accident under its own authority. While NTSB has not yet issued any formal findings, the information released to date indicates that train speed was a factor in the derailment. As Train 188 approached the curve from the west, it traveled over a straightaway with a maximum authorized passenger train speed of 80 mph. The maximum authorized passenger train speed for the curve was 50 mph. NTSB determined that the train was traveling approximately 106 mph within the curve's 50-mph speed restriction, exceeding the maximum authorized speed on the straightaway by 26 mph, and 56 mph over railroad's maximum authorized speed for the curve. FRA issued Emergency Order No. 31 (EO 31; 80 FR 30534, May 28, 2015) in response to this derailment. EO 31 requires Amtrak to take prescribed actions to ensure the safe operation of passenger trains on the Northeast Corridor.

In addition to the recent Amtrak passenger train derailment discussed above, in December 2013, a New York State Metropolitan Transportation Authority Metro-North Commuter Railroad Company (Metro-North) train derailed as it approached the Spuyten Duyvil Station in Bronx, New York. The train traveled over a straightaway with a maximum authorized passenger train speed of 70 mph before reaching a sharp curve in the track with a maximum authorized speed of 30 mph. NTSB's investigation of the Metro-North accident determined the train was traveling approximately 82 mph as it entered the curve's 30-mph speed restriction before derailing. That derailment resulted in four fatalities and at least 61 persons being injured. The Metro-North accident is similar to the recent Amtrak accident in that it involved a serious overspeed event in a sharp curve in the track. As a result of the derailment, FRA issued Emergency Order No. 29 (78 FR 75442, Dec. 11, 2013) requiring Metro-North to take certain actions to control passenger train speeds and also issued Safety Advisory 2013-08 to further enhance safety.

FRA issued Safety Advisory 2015-03 on June 12, 2015 (see 80 FR 33585) to stress to passenger railroads and railroads that host passenger service and their employees the importance of compliance with Federal regulations and applicable railroad rules governing applicable passenger train speed limits. This safety advisory makes recommendations to these railroads to ensure that compliance with applicable passenger train speed limits is addressed by appropriate railroad operating policies and procedures and signal systems.

FRA is requesting Emergency processing approval seven days after publication of this Federal Register Notice because FRA cannot reasonably comply with normal clearance procedures on account of use of normal clearance procedures is reasonably likely to disrupt the collection of information. The associated collection of information is summarized below.

Title: Operational and Signal Modification for Compliance with Maximum Authorized Passenger Train Speeds and Other Speed Restrictions.

Reporting Burden:

Safety advisory 2015-03 | Respondent universe | Total annual responses | Average time per response | Total annual burden hours
(1) RR Review of Circumstances of the Fatal May 12, 2015, Philadelphia Derailment with their Operating Employees | 28 Railroads | 28 RR Bulletins | 8 hours | 224
(2) RR Survey of their Entire Systems or the Portions on Which Passenger Service is Operated and Identification of Main Track Locations where there is a Reduction of More than 20 mph from the Approach Speed to a Curve or Bridge and the Maximum Authorized Operating Speed for Passenger Trains at the Identified Location | 28 Railroads | 28 Surveys/Lists | 40 hours | 1,120
(3) Communications between Locomotive Engineer and a Second Qualified Crew Member in the Body of the Train at Identified Locations | 28 Railroads | 2,800 Messages/Communications | 2 minutes | 93
(4) RR Installation of Additional Wayside Signs throughout Its System or Portions on Which Passenger Service is Operated, with Special Emphasis at Identified Locations | 28 Railroads | 3,024 Wayside Signs | 15.4839 minutes | 780

Form Number(s): N/A.

Respondent Universe: 28 Railroads.

Frequency of Submission: One-time; on occasion.

Total Estimated Responses: 5,880.

Total Estimated Annual Burden: 2,217 hours.

Status: Emergency Review.

Pursuant to 44 U.S.C. 3507(a) and 5 CFR 320.5(b), 1320.8(b)(3)(vi), FRA informs all interested parties that it may not conduct or sponsor, and a respondent is not required to respond to, a collection of information unless it displays a currently valid OMB control number.

Authority: 44 U.S.C. 3501-3520.

Rebecca Pennington,
Chief Financial Officer.

[FR Doc. 2015-16607 Filed 7-6-15; 8:45 am]

BILLING CODE 4910-06-P